DEPARTMENT OF TRANSPORTATION

Federal Highway Administration

Environmental Impact Statement: Cook County, IL

AGENCY: Federal Highway Administration (FHWA), DOT.

ACTION: Notice of Intent.

SUMMARY: The FHWA is issuing this notice to advise the public that an environmental impact statement will be prepared for a proposed transportation project in Cook County, Illinois.

FOR FURTHER INFORMATION CONTACT: Norman R. Stoner, P.E., Division Administrator, Federal Highway Administration, 3250 Executive Park Drive, Springfield, Illinois 62703, Phone: (217) 492-4600. Diane O'Keefe, P.E., Deputy Director of Highways, Region One Engineer, District 1, Illinois Department of Transportation, 201 W. Center Court, Schaumburg, IL 60196-1096, Phone: (847) 705-4110.

SUPPLEMENTARY INFORMATION: The FHWA, in cooperation with the Illinois Department of Transportation, will prepare an environmental impact statement (EIS) on a proposal to improve Interstate 290 (I-290) located in the Illinois county of Cook. The proposed improvement would involve the reconstruction of the existing 7.5 mile roadway facility from US 12/20/45 (Mannheim Road) to east of IL 50 (Cicero Avenue). Improvements to the corridor are considered necessary due to safety concerns, operational issues, traffic congestion, and age of facility. Alternatives that may be considered include (1) taking no action; (2) a full range of multi-modal build alternatives that involve the reconstruction of I-290.

Improvements to I-290 have the potential to affect environmental features in the project area. The corridor is located in a highly developed mature urban setting with limited biological and natural resources. The built environment has the potential to be affected. Some resources within the proposed area include: cemeteries, parks, special waste sites, nearby historic districts, possible residential and commercial displacements, air quality, sensitive noise receptors, the Des Plaines River, and related indirect and cumulative impact considerations.

Letters describing the proposed action and soliciting comments will be sent to appropriate Federal, State, and local agencies. As part of the EIS process a scoping meeting for obtaining input from Resource Agencies was held on September 9, 2009.

The Illinois Department of Transportation's Context Sensitive Solutions (CSS) process will be used for public involvement. A Stakeholder Involvement Plan (SIP) has been developed to ensure that the full range of issues related to this proposed project are identified and addressed. The SIP provides meaningful opportunities for all stakeholders to participate in defining transportation issues and solutions for the study area. One public meeting will be held in Cook County at each project milestone. In addition to the public meetings, a public hearing and comment period will be held following the release of the Draft EIS. Public notice will be given for the time and place of the public meetings and hearing. A project website has been established (http://www.eisenhowerexpressway.com) as one element of the project public involvement process.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: February 17, 2010.
Norman R. Stoner,
Division Administrator, Springfield, Illinois.

[FR Doc. 2010-3783 Filed 2-25-10; 8:45 am]

BILLING CODE 4910-22-M